DEPARTMENT OF COMMERCE

Economic Development Administration

Notice of Petitions by Firms for Determination of Eligibility to Apply for rade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List Of Petitions Received By Eda For Certification Of Eligibility To Apply For Trade Adjustment Assistance For The Period
[November 21, 2006 Through December 20, 2006]
Firm | Address | Date petition accepted | Product
E.F Young Jr. Manufacturing, Inc | 425 26th Avenue, Meridian, MS 39301 | 11/22/2006 | Ethnic hair care products and related toiletries
Elements/Jill Schwartz, Inc. | 343 Main Street, >Great Barrington, MA 01230 | 11/28/2006 | Decorative home accessories
Woodcraft, Inc | 105 Austin Road, Morristown, TN 37816 | 11/28/2006 | Edged glued panels, laminated wood squares and cut-to-specification blanks for the furniture industry
Reynolds & Reynolds, Inc | 521 E. Fourth Street, Bethlehem, PA 18015 | 12/6/2006 | Electronic emergency energy equipment for elevators
Sabel Engineering Corporation | P.O. Box 1223-20366, E. 8th Street, Sonoma, CA 95476 | 12/6/2006 | Packaging machinery (case packaging): targeted to food, dairy, pharmaceutical, and printing and binding industries. Bottom, in line loading and carousel loading versions.
Anco International, Inc | 19851 Cajon Blvd., San Bernardino, CA 92407 | 12/6/2006 | Hose couplings and support equipment
Mid-Atlantic Finishing Corporation | 4656 Addison Road, Capitol Heights, MD 20743 | 12/7/2006 | Articles of copper and metal finishing products
Syracuse China Company | 208 Court Street, Syracuse, NY 13208 | 12/11/2006 | High quality china dinnerware
St. Clair Plastics | 30855 Teton Place, Chesterfield Township, MI 40847 | 12/13/2006 | Plastic injection molded parts for the auto industry
Fotel, Inc | 1125 E. St. Charles Rd., Suite 100, Lombard, IL 60148 | 12/18/2006 | Photographic masks, high precision plates containing microscopic images of electronic circuits

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: December 20, 2006.
William P. Kittredge, Program Officer for TAA.

[FR Doc. E6-22114 Filed 12-26-06; 8:45 am]

BILLING CODE 3510-24-P